DEPARTMENT OF DEFENSE

Department of the Air Force

Privacy Act of 1974; System of Records

AGENCY: Department of the Air Force, DoD.

ACTION: Notice to add a record system.

SUMMARY: The Department of the Air Force proposes to add a system of records notice to its inventory of records systems subject to the Privacy Act of 1974 (5 U.S.C. 552a), as amended.

DATES: The actions will be effective on May 19, 2004, unless comments are received that would result in a contrary determination.

ADDRESSES: Send comments to the Air Force FOIA/Privacy Manager, AF-CIO/P, 1155 Air Force Pentagon, Washington, DC 20330-1155.

FOR FURTHER INFORMATION CONTACT: Mrs. Anne P. Rollins at (703) 601-4043.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on April 12, 2004, to the House Committee on Government Reform, the Senate Committee on Governmental Affairs, and the Office of Management and Budget (OMB) pursuant to paragraph 4c of Appendix I to OMB Circular No. A-130, ‘Federal Agency Responsibilities for Maintaining Records About Individuals.’ dated February 8, 1996 (February 20, 1996, 61 FR 6427).

Dated: April 12, 2004.
L.M. Bynum,
Alternate OSD Federal Register Liaison Officer, Department of Defense.

F044 AS SG U

System name:

Special Needs and Educational and Developmental Intervention Services (EDIS).

System location:

Headquarters United States Air Force, Office of the Surgeon General, 110 Luke Avenue, Room 400, Bolling Air Force Base, Washington, DC 20332-7050;

Headquarters, Air Force Medical Support Agency, 5203 Leesburg Pike, Suite 702, Falls Church, VA 22041-3410; and

Major Command Surgeon's offices; Air Force hospitals, medical centers and clinics. Official mailing addresses are published as an appendix to the Air Force's compilation of systems of records notices.

Categories of individuals covered by the system:

All DoD beneficiaries who are entitled to healthcare at Air Force medical facilities.

Categories of records in the system:

Records of family member special medical and/or educational needs, records of children receiving early intervention or related services from the Educational and Developmental Intervention Services clinics, medical summaries, individual educational program plans, general supportive documentation and correspondence.

Authority for maintenance of the system:

10 U.S.C. 8013, Secretary of the Air Force and E.O. 9397 (SSN).

Purpose(s):

To document the treatment and activities of the Special Needs and Educational and Developmental Intervention Services (EDIS) process as they pertain to special educational and/or medical needs of children and family members, perform outreach and prevention activities, conduct assessment and survey activities; compile database for statistical analysis, tracking, and reporting; evaluate program effectiveness and conduct research.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To any member of the family in whose sponsor's name the file is maintained, in furtherance of treating any member of the family.

To officials and employees of the Department of Veterans Affairs in the performance of their official duties relating to the adjudication of veterans claims and in providing medical care to members of the Air Force.

To officials and employees of other departments and agencies of the Executive Branch of government upon request in the performance of their official duties relating to review of the official qualifications and medical history of applicants and employees who are covered by this record system and for the conduct of research studies and relating to the coordination of EDIS and Special Needs programs, medical care and research concerning special educational or medical conditions.

To private organizations (including educational institutions) and individuals for authorized health research in the interest of the Federal government and the public. When not considered mandatory, patient identification data shall be eliminated from records used for research studies.

To officials and employees of the National Research Council in cooperative studies of the National History of Diseases; of prognosis and of epidemiology. Each study in which the records of members and former members of the Air Force are used must be approved by the Surgeon General of the Air Force.

To officials and employees of local and State governments and agencies in the performance of their official duties pursuant to the laws and regulations governing local control of communicable diseases, preventive medicine and safety programs, developmental disabilities, and other public health and welfare programs.

To the Federal, State or local governmental agencies when appropriate in the counseling and treatment of individuals or families with special medical or educational needs, or receiving early intervention or related services.

To authorized surveying bodies for professional certification and accreditations.

To the individual organization or government agency as necessary when required by Federal statute, E.O., or by treaty.

The DoD ‘Blanket Routine Uses’ set forth at the beginning of the Air Force's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Records may be stored in file folders, in computers, and on computer output products.

Retrievability:

Records are retrieved by the name and Social Security Number of the sponsor or the sponsor's spouse.

Safeguards:

Records are maintained in various types of lockable filing equipment in monitored or controlled access lockable rooms or areas. Records are accessible only to authorized personnel that are properly screened and trained. Computer terminals are located in supervised areas with access controlled by password or other user-code systems. Records on computer storage devices are protected by computer system security software or physically stored in lockable filling equipment.

Retention and disposal:

A Special Needs Assignment Coordination Record is closed when criteria for the Q-Code identifier no longer is met, or the AD member separates or retires from military services. An Educational and Developmental Intervention Services, early intervention services record is closed when the child, 0-3 years old, has reached and maintained age appropriate skills and is determined to no longer require services. A related services record is closed when the school age child no longer requires services, passes the age criteria, transfers to a public education system. Cut off and transfer to the National Personnel Records Center, 9700 Page Blvd, St. Louis, MO 63132-1547, 2-years after the end of the calendar year in which the Q-code deletion request has been affirmed by AFPC where they are destroyed after 25 years.

System manager(s) and address:

Air Force Special Needs Program Manager and Educational and Developmental Intervention Services Program Manager, Air Force Medical Support Agency, Special Needs Program, 5203 Leesburg Pike, Suite 702, Falls Church, VA 22041-3410. Major Command Surgeons, and Commanders of Air Force medical treatment facilities. Official mailing addresses are published as an appendix to the Air Force's compilation of systems of records notices.

Notification procedure:

Individuals seeking to determine if this system of records contains information on them should address inquiries to the Special Needs Coordinator at the Air Force medical treatment facility where services were provided. Official mailing addresses are published as an appendix to the Air Force's compilation of systems of records notices.

Requests should include the name and Social Security Number of the individual concerned.

Record access procedures:

Individuals seeking to access their records in this system should address requests to the Special Needs Coordinator at the Air Force medical treatment facility where services were provided. Official mailing addresses are published as an appendix to the Air Force's compilation of systems of records notices.

Requests should include the name and Social Security Number of the individual concerned.

Contesting record procedures:

The Air Force rules for accessing records, and for contesting contents and appealing initial agency determinations are published in Air Force Instruction 33-332; 32 CFR part 806b; or may be obtained from the system manager.

Record source categories:

Individual to whom the record pertains, reports from physicians and other medical department personnel; reports and information from other sources including educational institutions, medical institutions, public and private health and welfare agencies.

Exemptions claimed for the system:

None.

[FR Doc. 04-8649 Filed 4-16-04; 8:45 am]

BILLING CODE 5001-06-M